FEDERAL COMMUNICATIONS COMMISSION

47 CFR Part 54

[WC Docket No. 05-195; CC Docket No. 96-45; CC Docket No. 02-6; WC Docket No. 02-60; WC Docket No. 03-109; CC Docket No. 97-21; FCC 07-150]

Comprehensive Review of the Universal Service Fund

AGENCY: Federal Communications Commission.

ACTION: Final rule; announcement of effective date.

SUMMARY: On August 29, 2007, the FCC released a Report and Order, Comprehensive Review of the Universal Service Fund Management, Administration, and Oversight; Federal-State Joint Board on Universal Service; Schools and Libraries Universal Service Support Mechanism; Rule Health Care Support Mechanism; Lifeline and Link-up; and Changes to the Board of Directors for the National Exchange Carrier Association, Inc., WC Docket No. 05-195; CC Docket No. 96-45; CC Docket No. 02-6; WC Docket No. 02-60; WC Docket No. 03-109; CC Docket No. 97-21; FCC 07-150. The information collection requirements in this Report and Order required approval from the Office of Management and Budget. This document announces the effective date of these information collection requirements.

DATES: The information collection requirements in amendments to §§ 54.202, 54.417, 54.619, and 54.706, published at 72 FR 54214, September 24, 2007, were approved by the Office of Management and Budget on January 23, 2008.

FOR FURTHER INFORMATION CONTACT: Mika Savir, Senior Attorney, Office of the Managing Director, (202) 418-0384, TTY 1 (888) 835-5322.

SUPPLEMENTARY INFORMATION: The Report and Order stated that the Commission would publish a notice announcing the effective date of the information collection requirements. On January 23, 2008, OMB approved the information collection requirements contained in this Report and Order pursuant to OMB Control Number: 3060-1112, Comprehensive Review of the Universal Service Fund Management, Administration, and Oversight. Accordingly, the information collection requirements contained in the Report and Order became effective on January 23, 2008. The expiration date for the information collection is January 31, 2011.

The Commission also published a separate Notice in the Federal Register on January 31, 2008 (73 FR 5843) in which the PRA various burden estimates for this information collection, 3060-1112, Comprehensive Review of the Universal Service Fund Management, which OMB has approved, were listed.

Pursuant to the Paperwork Reduction Act of 1995, 44 U.S.C. 3501-3520, an agency may not conduct or sponsor a collection of information unless it displays a currently valid control number. Notwithstanding any other provisions of law, no person shall be subject to any penalty for failing to comply with a collection of information subject to the Paperwork Reduction Act (PRA) that does not display a valid control number. Questions concerning this information collection, 3060-1112, should be directed to Leslie F. Smith, Federal Communications Commission, and (202) 418-0217 or via the Internet at Leslie.Smith@fcc.gov.

Federal Communications Commission.
Marlene H. Dortch,
Secretary.

[FR Doc. E8-4047 Filed 3-4-08; 8:45 am]

BILLING CODE 6712-01-P